DEPARTMENT OF LABOR

Occupational Safety and Health Administration

[Docket No. OSHA-2016-0022]

Bay Area Compliance Laboratories Corp.: Grant of Expansion of Recognition

AGENCY: Occupational Safety and Health Administration (OSHA), Labor.

ACTION: Notice.

SUMMARY: In this notice, OSHA announces the final decision to expand the scope of recognition for Bay Area Compliance Laboratories Corp. as a Nationally Recognized Testing Laboratory (NRTL).

DATES: The expansion of the scope of recognition becomes effective on January 26, 2022.

FOR FURTHER INFORMATION CONTACT: Information regarding this notice is available from the following sources:

Press inquiries: Contact Mr. Frank Meilinger, Director, OSHA Office of Communications, U.S. Department of Labor; telephone: (202) 693-1999; email: meilinger.francis2@dol.gov.

General and technical information: Contact Mr. Kevin Robinson, Director, Office of Technical Programs and Coordination Activities, Directorate of Technical Support and Emergency Management, Occupational Safety and Health Administration, U.S. Department of Labor; telephone: (202) 693-2110; email: robinson.kevin@dol.gov. OSHA's website includes information about the NRTL Program (see http://www.osha.gov/dts/otpca/nrtl/index.html).

SUPPLEMENTARY INFORMATION:

I. Notice of Final Decision

OSHA hereby gives notice of the expansion of the scope of recognition of Bay Area Compliance Laboratories Corp. (BACL) as a NRTL. BACL's expansion covers the addition of seven recognized testing standards to the NRTL scope of recognition.

OSHA recognition of a NRTL signifies that the organization meets the requirements specified in 29 CFR 1910.7. Recognition is an acknowledgment that the organization can perform independent safety testing and certification of the specific products covered within the scope of recognition, and is not a delegation or grant of government authority. As a result of recognition, employers may use products properly approved by the NRTL to meet OSHA standards that require testing and certification.

The agency processes applications by a NRTL for initial recognition, or for expansion or renewal of this recognition, following requirements in Appendix A to 29 CFR 1910.7. This appendix requires that the agency publish two notices in the Federal Register in processing an application. In the first notice, OSHA announces the application and provides the preliminary finding and, in the second notice, the agency provides the final decision on the application. These notices set forth the NRTL's scope of recognition or modifications of that scope. OSHA maintains an informational web page for each NRTL that details the scope of recognition. These pages are available from the agency's website at http://www.osha.gov/dts/otpca/nrtl/index.html.

BACL submitted an application, dated July 20, 2017 (OSHA-2016-0022-0011),¹ to expand its NRTL scope of recognition to include seven additional test standards. OSHA performed a detailed analysis of the application packet and reviewed other pertinent information. OSHA did not perform any on-site reviews in relation to this application.

¹ OSHA notes that in the preliminary notice, it accidentally listed this document's docket number as OSHA-2016-0022-0009.

OSHA published the preliminary notice announcing BACL's expansion application in the Federal Register on October 22, 2021 (86 FR 58694). The agency requested comments by November 8, 2022, but it received no comments in response this notice. OSHA now is proceeding with this final notice to grant expansion of BACL's scope of recognition.

To obtain or review copies of all public documents pertaining to BACL's application, go to www.regulations.gov or contact the Docket Office, Occupational Safety and Health Administration, U.S. Department of Labor. Docket No. OSHA-2016-0022 contains all materials in the record concerning BACL's recognition. Please note: Due to the COVID-19 pandemic, the Docket Office is closed to the public at this time but can be contacted at (202) 693-2350, TTY (877) 889-5627.

II. Final Decision and Order

OSHA staff examined BACL's expansion application and examined other pertinent information. Based on a review of this evidence, OSHA finds that BACL meets the requirements of 29 CFR 1910.7 for expansion of recognition, subject to the limitation and conditions listed below. OSHA, therefore, is proceeding with this final notice to grant expansion of BACL's scope of recognition. OSHA limits the expansion of BACL's scope of recognition to testing and certification of products for demonstration of conformance to the test standards listed in Table 1.

Table 1—List of Appropriate Test Standards for Inclusion in BACL's NRTL Scope of Recognition
Test standard | Test standard title
UL 153 | Portable Electric Lamps.
UL 935 | Standard for Fluorescent-Lamp Ballasts.
UL 1310 | Standard for Class 2 Power Units.
UL 1598 | Luminaires.
UL 1598C | Standard for Light-Emitting Diode (LED) Retrofit Luminaire Conversion Kits.
UL 1993 | Self-Ballasted Lamps and Lamp Adapters.
UL 8750 | Standard for Light-Emitting Diode (LED) Equipment for Use in Lighting Products.

OSHA's recognition of any NRTL for a particular test standard is limited to equipment or materials for which OSHA standards require third-party testing and certification before using them in the workplace. Consequently, if a test standard also covers any products for which OSHA does not require such testing and certification, a NRTL's scope of recognition does not include these products.

The American National Standards Institute (ANSI) may approve the test standards listed above as American National Standards. However, for convenience, the use of the designation of the standards-developing organization for the standard as opposed to the ANSI designation may occur. Under the NRTL Program's policy (see OSHA Instruction CPL 01-00-004, Chapter 2, Section VIII), only standards determined to be appropriate test standards may be approved for NRTL recognition. Any NRTL recognized for a particular test standard may use either the proprietary version of the test standard or the ANSI version of that standard. Contact ANSI to determine whether a test standard is currently ANSI-approved.

A. Conditions

In addition to those conditions already required by 29 CFR 1910.7, BACL must abide by the following conditions of the recognition:

1. BACL must inform OSHA as soon as possible, in writing, of any change of ownership, facilities, or key personnel, and of any major change in its operations as a NRTL, and provide details of the change(s);

2. BACL must meet all the terms of the recognition and comply with all OSHA policies pertaining to this recognition; and

3. BACL must continue to meet the requirements for recognition, including all previously published conditions on BACL's scope of recognition, in all areas for which it has recognition.

Pursuant to the authority in 29 CFR 1910.7, OSHA hereby expands the scope of recognition of BACL, subject to the limitation and conditions specified above.

III. Authority and Signature

Douglas L. Parker, Assistant Secretary of Labor for Occupational Safety and Health, authorized the preparation of this notice. Accordingly, the agency is issuing this notice pursuant to 29 U.S.C. 657(g)(2), Secretary of Labor's Order No. 8-2020 (85 FR 58393, Sept. 18, 2020), and 29 CFR 1910.7.

Signed at Washington, DC, on January 18, 2022.
Douglas L. Parker,
Assistant Secretary of Labor for Occupational Safety and Health.

[FR Doc. 2022-01454 Filed 1-25-22; 8:45 am]

BILLING CODE 4510-26-P